DEPARTMENT OF HOMELAND SECURITY

[Docket No. DHS-2022-0058]

Homeland Security Academic Partnership Council

AGENCY: The Department of Homeland Security (DHS), Office of Partnership and Engagement (OPE).

ACTION: Notice of Charter amendment with modifications to the Council Name, Charter Scope of Activities, and Membership Composition.

SUMMARY: The Secretary of Homeland Security (Secretary) approved the Homeland Security Academic Advisory Council (HSAAC) name change to Homeland Security Academic Partnership Council (HSAPC, hereinafter “Council”) to avoid confusion with the name of the Homeland Security Advisory Council (HSAC). The primary purpose of the Council is to provide organizationally independent, strategic, timely, specific, and actionable recommendations to the Secretary on key issues across the homeland security enterprise as they relate to the intersection of education and academia and the DHS mission.

The Council will consist of up to 30 members who are appointed by and serve at the pleasure of the Secretary of Homeland Security. All members are appointed as Representative members. The Secretary approved modifications to the categories and removal of the numerical limitations to the categories to allow for increased flexibility across the broad categories of membership. The Council Representative members, as well as being diverse and an inclusive membership will represent one or more of the categories below:

(a) Academic associations;

(b) School safety, campus safety, public safety, or emergency management associations;

(c) State, local or tribal law enforcement or related association;

(d) President or Chancellor of a public or private:

• Four-year college or university;

• Two-year community college; or

• Minority Serving Institution (MSIs);

(e) Superintendent or comparable of a K-12 public school system;

(f) President or CEO of an Education Employee Association or Education Employee Labor Organization; and/or

(g) President or CEO of a private sector company, non-governmental organization, or civil society.

Appointments are made without regard to political affiliation. In order for DHS to fully leverage broad-ranging experience and education, the HSAPC must be diverse with regard to professional and technical expertise. DHS is committed to pursuing opportunities, consistent with applicable law, to compose a committee that reflects the diversity of the nation's people.

The Council is the sole advisory committee within DHS providing advice and recommendations on matters relating to the intersection of education and academia and the DHS mission.

The Council will operate in an advisory capacity only. The Council is necessary and in the public interest. This notice is provided in accordance with the Federal Advisory Committee Act, as amended, 5 U.S.C. App. The Council will terminate two years from the date of its establishment, unless renewed by the Secretary.

Revisions were made to the committee's objectives and scope of activities to encompass broader topics to align with the challenges facing the education and academic sectors. These broader topics allow the Secretary to receive recommendations on more facets of issues pertaining to these sectors. The committee's revised objectives and scope of activities provide for the committee to make recommendations that may relate to, but are not limited to:

(a) DHS-wide funding opportunities, such as grants, scholarships, programs, and hiring surges;

(b) Safety and security, including prevention, response, mitigation, recovery, and other emergency management and preparedness measures;

(c) Improving coordination and sharing of threat and security related information including threats of violence, and targeted violence and terrorism prevention;

(d) Methods to develop career opportunities to support a 21st century DHS workforce; and

(e) Enhancing and expanding research opportunities, such as the DHS Science and Technology Centers of Excellence and DHS/National Security Agency joint Centers of Academic Excellence.

Finally, to allow for more external (non-Federal) voices, the revised charter removes DHS and Interagency members, which included “up to one representative” from six DHS offices/components and four federal agencies who served as non-voting ex officio members. Under the revised charter, the Secretary may invite participation from other federal Departments and Interagency members as necessary.

FOR FURTHER INFORMATION CONTACT: Z. Traci Silas at 202-447-3497, DHSacademic@hq.dhs.gov.

Zarinah Traci Silas,
Executive Director and Designated Federal Officer.

[FR Doc. 2023-07058 Filed 4-4-23; 8:45 am]

BILLING CODE 9112-FN-P